DEPARTMENT OF TRANSPORTATION

Surface Transportation Board

[STB Finance Docket No. 34217]

Hennepin County Regional Railroad Authority—Acquisition Exemption—Soo Line Railroad Company

Hennepin County Regional Railroad Authority (Authority), a noncarrier and political subdivision of the State of Minnesota, has filed a verified notice of exemption under 49 CFR 1150.31 to acquire from Soo Line Railroad Company (Soo) 330 feet of railroad right-of-way and trackage (known as the Hopkins Line),¹ extending from Soo milepost 428.38 ± Engineering Station 381.90 (at or near former Chicago and North Western Transportation Company (CNW) milepost 16.3) to at or near former CNW milepost 16.2 where it connects with Authority's Kenilworth Route in St. Louis Park, MN. Authority states that a third party, Twin Cities and Western Railway Company (TC&W), will operate over the line.²

¹ The Sale Property will connect several abandoned rail lines owned by the Authority to each other and to an active rail corridor owned by the Authority known as the Kenilworth Route. The Authority acquired each of these lines for future transportation uses, including, without limitation, rail, bicycle and foot travel. Closing on the Sale Property will allow completion of a trail system known as the Midtown Greenway on the Authority's Depression Line.

² Anticipated rail operations by a third party would be subject to the Board's approval or exemption. As of this date no filing has been made at the Board.

The transaction was expected to be consummated on or shortly after June 20, 2002 (15 days after the removal of the section 106 historic preservation condition imposed in STB AB-57 (Sub No. 52X). See Soo Line Railroad Company—Abandonment Exemption—In Hennepin County, MN, STB AB-57 (Sub-No. 52X) (STB served June 5, 2002).

If the notice contains false or misleading information, the exemption is void ab initio. Petitions to revoke the exemption under 49 U.S.C. 10502(d) may be filed at any time. The filing of a petition to revoke does not automatically stay the transaction.

An original and 10 copies of all pleadings, referring to STB Finance Docket No. 34217, must be filed with the Surface Transportation Board, 1925 K Street, NW., Washington, DC 20423-0001. In addition, a copy of each pleading must be served on Marilyn J. Maloney, 300 South Sixth Street, Minneapolis, MN 55487.

Board decisions and notices are available on our website at “http://www.stb.dot.gov.”

Decided: July 2, 2002.
By the Board, David M. Konschnik, Director, Office of Proceedings.
Vernon A. Williams,
Secretary.

[FR Doc. 02-17109 Filed 7-9-02; 8:45 am]

BILLING CODE 4915-00-P